DEPARTMENT OF COMMERCE

National Oceanic and Atmospheric Administration

[I.D. 092101D]

Marine Mammals; File No. 87-1593-00

AGENCY: National Marine Fisheries Service (NMFS), National Oceanic and Atmospheric Administration (NOAA), Commerce.

ACTION: Receipt of application for amendment.

SUMMARY: Notice is hereby given that Dr. Daniel P. Costa, Professor of Biology, Department of Ecology and Evolutionary Biology, Center for Ocean Health, Santa Cruz, CA 95060, has requested an amendment to scientific research Permit No. 87-1593.

DATES: Written or telefaxed comments must be received on or before November 8, 2001.

ADDRESSES: The amendment request and related documents are in the following office(s):

Permits and Documentation Division, Office of Protected Resources, NMFS, 1315 East-West Highway, Room 13705, Silver Spring, MD 20910; phone (301)713-2289; fax (301)713-0376; and

Southwest Region, NMFS, 501 West Ocean Blvd., Suite 4200, Long Beach, CA 90802-4213; phone (562)980-4001; fax (562)980-4018;

Southeast Region, NMFS, 9721 Executive Center Drive North, St. Petersburg, FL 33702-2432; phone (727)570-5301; fax (727)570-5320.

Written comments or requests for a public hearing on this request should be submitted to the Chief, Permits and Documentation Division, F/PR1, Office of Protected Resources, NMFS, 1315 East-West Highway, Room 13705, Silver Spring, MD 20910. Those individuals requesting a hearing should set forth the specific reasons why a hearing on this particular amendment request would be appropriate.

Comments may also be submitted by facsimile at (301)713-0376, provided the facsimile is confirmed by hard copy submitted by mail and postmarked no later than the closing date of the comment period. Please note that comments will not be accepted by e-mail or other electronic media.

FOR FURTHER INFORMATION CONTACT: Ruth Johnson or Amy Sloan (301)713-2289.

SUPPLEMENTARY INFORMATION: The subject amendment to Permit No. 87-1593, issued on February 21, 2001 (66 FR 12763), is requested under the authority of the Marine Mammal Protection Act of 1972, as amended (16 U.S.C. 1361 et seq.), and the Regulations Governing the Taking and Importing of Marine Mammals (50 CFR part 216).

Permit No.87-1593 authorizes the permit holder to conduct research on marine mammals in two different projects: Project I authorizes capture, tag, sample and release of California sea lions (Zalophus californianus); Project II authorizes capture, tag, sample and release of Crabeater seals (Lobodon carcinophagus) and secondarily takes for leopard seals (Hydrurga leptonyx), Weddell seals (Leptonychotes weddellii), and Ross seals (Ommatophoca rossii).

The permit holder requests authorization to: a) Take 40 adult male California sea lions per year by capture, tag, bleach mark, restraint, anesthetization, blood sample (80ml), weigh, morphometric measurements, muscle biopsy and instrument with TDRs and/or ARGOS linked PTTs and heart-rate/stomach-temperature (GTR) recorders, insertion of a stomach temperature pill, and release; b) incidentally harass up to 1000 sea lions per adult capture event (approx. 40K); c) incidentally harass up to 2600 animals during fecal collection; d)incidentally harass up to 1000 Northern elephant seals, and up to 100 Northern fur seals during all research on California sea lions. Takes are requested annually.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: October 2, 2001.
Ann D. Terbush,
Chief, Permits and Documentation Division, Office of Protected Resources, National Marine Fisheries Service.

[FR Doc. 01-25300 Filed 10-5-01; 8:45 am]

BILLING CODE 3510-22-S